DEPARTMENT OF TRANSPORTATION

Federal Aviation Administration

Approval of Noise Compatibility Program, Williams Gateway Airport, Mesa, AZ

AGENCY: Federal Aviation Administration, Transportation.

ACTION: Notice.

SUMMARY: The Federal Aviation Administration (FAA) announces its findings on the Noise Compatibility Program submitted by the Williams Gateway Airport Authority, Mesa, Arizona, under the provisions of Title I of the Aviation Safety and Noise Abatement Act of 1979 (Public Law 96-193) and Title 14, Code of Federal Regulations, Part 150 (FAR part 150). These findings are made in recognition of the description of Federal and nonfederal responsibilities in Senate Report No. 96-52 (1980). On May 2, 2000, the FAA determined that the noise exposure maps submitted by the Williams Gateway Airport Authority under FAR part 150 were in compliance with applicable requirements. On August 17, 2001, the Acting Associate Administrator for Airports approved the Williams Gateway Airport Noise Compatibility Program. Twenty of the twenty-three program measures have been approved. Seven measures were approved as voluntary measures, thirteen measures were approved outright, two measures were disapproved pending the submission of additional information and one measure was disapproved for the purposes of part 150.

EFFECTIVE DATE: The effective date of the FAA's approval of the Williams Gateway Airport Noise Compatibility Program is August 17, 2001.

FOR FURTHER INFORMATION CONTACT: Brian Armstrong, Airport Planner, Airports Division, AWP-611.1, Federal Aviation Administration, Western-Pacific Region. Mailing address: P.O. Box 92007, Los Angeles, California 90009-2007. Telephone: (310) 725-3614. Street address: 15000 Aviation Boulevard, Hawthorne, California 90261. Documents reflecting this FAA action may be reviewed at this location.

SUPPLEMENTARY INFORMATION: This notice announces that the FAA has given its overall approval to the Noise Compatibility Program for the Williams Gateway Airport, effective August 17, 2001. Under Section 104(a) of the Aviation Safety and Noise Abatement Act of 1979 (hereinafter referred to as “the Act”), an airport operator who has previously submitted a Noise Exposure Map, may submit to the FAA, a Noise Compatibility Program which sets forth the measures taken or proposed by the airport operator for the reduction of existing noncompatible land uses and prevention of additional noncompatible land uses within the area covered by the Noise Exposure Maps. The Act requires such programs to be developed in consultation with interested and affected parties including local communities, government agencies, airport users, and FAA personnel.

Each airport Noise Compatibility Program developed in accordance with FAR part 150 is a local program, not a federal program. The FAA does not substitute its judgment for that of the airport proprietor with respect to which measures should be recommended for action. The FAA's approval or disapproval of FAR part 150 program recommendations is measured according to the standards expressed in FAR part 150 and is limited to the following determinations:

a. The Noise Compatibility Program was developed in accordance with the provisions and procedures of FAR part 150;

b. Program measures are reasonably consistent with achieving the goals of reducing existing noncompatible land uses around the airport and preventing the introduction of additional noncompatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in FAR part 150, section 150.5. Approval is not a determination concerning the acceptability of land uses under Federal, State, or local law. Approval does not by itself constitute a FAA implementing action. A request for Federal action or approval to implement specific noise compatibility measures may be required, and a FAA decision on the request may require an environmental assessment of the proposed action. Approval does not constitute a commitment by the FAA to financially assist in the implementation of the program nor a determination that all measures covered by the program are eligible for grant-in-aid funding from the FAA. Where Federal funding is sought, requests for project grants must be submitted to the FAA Airports Division office in Hawthorne, California.

The Williams Gateway Airport authority submitted the Noise Exposure Maps, descriptions, and other documentation produced during the noise compatibility planning study conducted from February 1999 through December 2000 to the FAA on December 16, 1999. The Williams Gateway Airport Noise Exposure Maps were determined by FAA to be in compliance with applicable requirements on May 2, 2000. Notice of this determination was published in the Federal Register on May 15, 2000.

The Williams Gateway Airport study contains a proposed Noise Compatibility Program comprised of actions designed for implementation by airport management and adjacent jurisdictions. It was requested that the FAA evaluate and approve this material as a Noise Compatibility Program as described in Section 104(b) of the Act. The FAA began its review of the program on February 20, 2001 and was required by a provision of the Act to approve or disapprove the program within 180 days (other than the use of new flight procedures for noise control). Failure to approve or disapprove such program within the 180-day period shall be deemed to be an approval of such program.

The submitted program contained twenty-three proposed actions for noise mitigation on and off the airport. The FAA completed its review and determined that the procedural and substantive requirements of the Act and FAR Part 150 have been satisfied. The Acting Associate Administrator for Airports approved the overall program effective August 17, 2001.

Twenty of the twenty-three program measures have been approved. The following seven measures were approved as voluntary measures: Continue Calm Wind Runway 30 L/C/R Use Program; Continue using Runway 12R-30L for Light Piston Aircraft and Runways 12C/L-30C/R for Large Turbojet Aircraft Operations; Continue to Encourage use of NBAA [National Business Aviation Association] Noise Abatement Procedures; Continue to Promote use of AOPA [Aircraft Owner and Pilots Association] Noise Awareness Steps by light single and twin-engine aircraft; Continue to Promote the Departure Procedure for the AANG [Arizona Air National Guard] 161st Air Refueling Wing KC-135 Aircraft and Aircraft less than 12,500 pounds; Develop Helicopter Reporting Points and Arrival and Departure Routes; and, Request Aircraft Using Runway 12R-30L Traffic Pattern To Remain East of the Southern Pacific Railroad. The following thirteen measures were approved outright: Support 161st Air Refueling Wing of the Arizona Air National Guard's efforts to re-engine KC-135 Aircraft; Update General Plans to Reflect the “Land Use Planning Scenario” noise contours and Airport Planning Area as a basis for noise compatibility Planning; Retain compatible land use designations for undeveloped land within the Airport Planning Area; Develop a new mixed-use category that does not allow residential within the planned mixed-use areas inside the planning scenario's 60-DNL boundary and immediately north of the airport; Establish noise compatibility guidelines for the review of development projects within the “planning scenario” 60 DNL noise contour; Encourage rezoning areas within the “Planning Scenario” noise contours and Airport Planning Area (APA) to Match the Compatible land use designations in the general plans; Amend Airport Over flight Zoning Ordinance, reflect planning scenario noise contours and Airport Planning Area (APA), require fair disclosure covenants and amend sound insulation standards; Amend subdivision regulations to require recording of fair disclosure covenants and granting of avigation easements in Airport Planning Area; Amend building codes to add sound insulation standards supporting the Airport Planning Area (APA) over flight zoning requirements; Maintain and update the system for receiving, analyzing, and responding to noise complaints and community outreach; Acquire noise monitors; Review Noise Compatibility Plan implementation; and, Update Noise Exposure Maps and Noise Compatibility Program. The following Two measures were disapproved pending the submission of additional information: Install PAPI-4 Lighting on Runway 12R-30L; and, Encourage Use of AC 91.53A Noise Abatement Departure Procedures by Air Carrier Jets. The following measure was disapproved for the purposes of Part 150: Relocate Instrument Landing System to Runway 30R.

These determinations are set forth in detail in a Record of Approval endorsed by the Acting Associate Administrator for Airports on August 17, 2001. The Record of Approval, as well as other evaluation materials and the documents comprising the submittal are available for review at the FAA office listed above and at the administrative offices of the Williams Gateway Airport Authority, Mesa, Arizona.

Issued in Hawthorne, California, on August 23, 2001.
Herman C. Bliss,
Manager, Airports Division, AWP-600, Western-Pacific Region.

[FR Doc. 01-22046 Filed 8-30-01; 8:45 am]

BILLING CODE 4910-13-M